GENERAL SERVICES ADMINISTRATION

Public Buildings Service

Availability of Final Environmental Impact Statement: United States Mission to the United Nations

Pursuant to Section 102(2)(C) of the National Environmental Policy Act (NEPA) of 1969, as amended, as implemented by the Council on Environmental Quality (40 CFR parts 1500-1508), the General Services Administration (GSA) has filed with the U.S. Environmental Protection Agency and made available to other government agencies and interested private parties, the Final Environmental Impact Statement (FEIS) for the demolition of the Federal building currently housing the United States Mission to the United Nations (USUN) and the subsequent construction of a new facility on the same site. A public hearing for the Draft Environmental Impact Statement was held on Wednesday, June 13th, 2001.

The FEIS is on file at GSA offices in Manhattan, Manhattan Community District #6 and the Mid-Manhattan Library. Copies of the FEIS Executive Summary or additional information may be obtained from: General Services Administration, Public Buildings Services—2PT, 26 Federal Plaza, Room 1609, New York, New York, 10278, ATTN: Peter Sneed.

Written comments regarding the FEIS may be submitted until Friday October 26th, 2001 and should be addressed to General Services Administration in care of the above noted individual.

Dated: August 28, 2001.
Steve Ruggiero,
Acting Regional Administrator (2A).

[FR Doc. 01-22339 Filed 9-5-01; 8:45 am]

BILLING CODE 6820-23-M